DEPARTMENT OF HOMELAND SECURITY

Coast Guard

[Docket No. CGD08-07-030]

Lower Mississippi River Waterway Safety Advisory Committee

AGENCY: Coast Guard, DHS.

ACTION: Notice of meeting.

SUMMARY: The Lower Mississippi River Waterway Safety Advisory Committee (LMRWSAC) will meet to discuss various issues relating to navigational safety on the Lower Mississippi River and related waterways. This meeting will be open to the public.

DATES: The Committee will meet on Tuesday, December 11, 2007, from 9 a.m. to 12 p.m. This meeting may adjourn early if all business is finished. Requests to make oral presentations or submit written materials for distribution at the meeting should reach the Coast Guard on or before November 27, 2007. Requests to have a copy of your material distributed to each member of the committee in advance of the meeting should reach the Coast Guard on or before November 27, 2007.

ADDRESSES: The meeting will be held at the New Orleans Yacht Club, 403 North Roadway, West End, New Orleans, LA 70124. This notice is available in our online docket, CGD08-07-030 at http://regulations.gov.

FOR FURTHER INFORMATION CONTACT: Lieutenant Junior Grade (LTJG) Tonya Harrington, Assistant Committee Administrator, e-mail tonya.m.harrington@uscg.mil or LTJG Tom Sanborn @ tom.a.sanborn@uscg.mil. Written materials and requests to make presentations should be mailed to Commanding Officer, USCG Sector New Orleans, Attn: Waterways Management, 1615 Poydras St., New Orleans, LA 70112.

SUPPLEMENTARY INFORMATION: Notice of this meeting is given under the Federal Advisory Committee Act, 5 U.S.C. App. (Pub. L. 92-463).

Agenda of Meeting

The agenda for the LMRWSAC meeting is as follows:

(1) Introduction of committee members.

(2) Opening Remarks.

(3) Approval of the August 28, 2007 minutes.

(4) Old Business:

(a) Captain of the Port status report.

(b) VTS update report.

(c) Subcommittee / Working Groups update reports.

(5) New Business.

(6) Adjournment.

Procedural

The meeting is open to the public. Please note that the meeting may close early if all business is finished. At the Chair's discretion, members of the public may make oral presentations during the meeting. If you would like to make an oral presentation at the meeting, please notify the Committee Administrator no later than November 27, 2007. Written material for distribution at the meeting should reach the Coast Guard no later than November 27, 2007. If you would like a copy of your material distributed to each member of the committee in advance of the meeting, please submit 25 copies to the Committee Administrator no later than November 27, 2007.

Information on Services for Individuals With Disabilities

For information on facilities or services for individuals with disabilities, or to request special assistance at the meetings, contact the Committee Administrator at the location indicated under Addresses as soon as possible.

Dated: October 18, 2007.
J.H. Horn,
Captain, U.S. Coast Guard, Commander, 8th Coast Guard District, Acting.

[FR Doc. E7-21305 Filed 10-29-07; 8:45 am]

BILLING CODE 4910-15-P